FEDERAL COMMUNICATIONS COMMISSION

Notice of Public Information Collection(s) Being Submitted for Emergency Review by the Office of Management and Budget

May 15, 2008.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 20, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via internet at Nicholas_A._Fraser@omb.eop.gov and to Judith-B. Herman@fcc.gov, Federal Communications Commission, or an e-mail to PRA@fcc.gov. To view a copy of this information collection request (ICR) submitted to OMB: (1) Go to the Web page http://reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION: The Commission is requesting emergency OMB review and approval by June 13, 2008.

OMB Control Number: 3060-XXXX.

Title: DTV Retailer Site Visit Program.

Form No.: N/A.

Type of Review: New collection.

Respondents: Business or other for-profit.

Number of Respondents: 1,450 respondents; 1,450 responses.

Estimated Time Per Response: .25 hours.

Frequency of Response: On occasion reporting requirement.

Obligation to Respond: Voluntary.

Total Annual Burden: 325 hours.

Total Annual Cost: N/A.

Privacy Act Impact Assessment: N/A.

Nature and Extent of Confidentiality: No sensitive information is requested. There is no need for confidentiality.

Needs and Uses: The Commission will submit this information collection (IC) to the OMB a new collection in which we request emergency OMB review and approval by June 13, 2008. On February 19, 2008, the Commission adopted a Report and Order in MB Docket No. 07-148, FCC 08-56, concerning the DTV Consumer Education Initiative. The Report and Order noted that many retailers have agreed to participate in the National Telecommunications and Information Agency (NTIA) digital-to-analog converter box coupon program. Those retailers claim to have undertaken significant employee training initiatives regarding the converter box program and the digital television transition. Among other things, the Report and Order offered the Commission's assistance to the NTIA to assess those training efforts. In this regard, the Commission's Enforcement Bureau field agents will regularly visit participating retailer stores across the country. They will conduct on-the-spot interviews with retail managers to ascertain whether retailers who participate in the converter box coupon box program are fulfilling their commitment to engage in extensive employee training on the DTV transition and converter box program. The interview will consist of a series of questions to assess employee training and whether the retailer's objectives are being met at stores. The interview will not be part of an official investigation and no penalty would result from the interview. The information collected will be forwarded to FCC Headquarters to be consolidated into an aggregated report that will then be forwarded to NTIA for its review and appropriate action.

Federal Communications Commission.
Marlene H. Dortch,
Secretary.

[FR Doc. E8-11378 Filed 5-20-08; 8:45 am]

BILLING CODE 6712-01-P